DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 9, 2002.

Interested persons are invited to submit written comments regarding the subject matter of the investigations to the Director, Division of Trade Adjustment Assistance, at the address shown below, not later than December 9, 2002.

The petitions filed in this case are available for inspection at the Office of the Director, Division of Trade Adjustment Assistance, Employment, and Training Administration, U.S. Department of Labor, Room C-5311, 200 Constitution Avenue, NW., Washington, DC 20210.

Signed in Washington, DC this 7th day of October, 2002.
Edward A. Tomchick,
Director, Division of Trade Adjustment Assistance.

Appendix—Petitions Instituted on October 7, 2002
TA-W | Subject firm (petitioners) | Location | Date of petition | Product(s)
42,210 | Presto Products (Wrks) | Alamogordo, NM | 09/19/2002 | Small appliances.
42,211 | Motorola—SPS-BMC (Wrks) | Mesa, AZ | 09/04/2002 | Pressure sensor.
42,212 | Deluxe Craft Photo Albums (Wrks) | Chicago, IL | 09/17/2002 | Photo albums.
42,213 | John Boyle and Assoc., LLC (Comp) | Easton, PA | 09/16/2002 | Bearing housing, castings and machining.
42,214 | SPX Valves and Controls (IAM) | Sartell, MN | 09/16/2002 | Valves and controls.
42,215 | Agilent Technologies, FSC (Wrks) | Colorado Spring, Co | 09/03/2002 | Financial service.
42,216 | Alba-Waldensian, Inc. (Comp) | Valdese, NC | 08/23/2002 | Knitted apparel—undergarments, hosiery.
42,217 | Microelectronic Module (Wrks) | New Berlin, WI | 09/23/2002 | Circuit boards.
42,218 | Kent Inc. (Comp) | Ft. Kent, ME | 09/27/2002 | Infant sleepwear.
42,219 | Celestica Corporation (Comp) | Foothill Ranch, CA | 09/12/2002 | Computer and server products.
42,220 | Bo-Jan Garment, Inc. (Comp) | Schuylkill Have, PA | 09/19/2002 | Men and women sportswear, t-shirts, pant.
42,221 | Marconi Communications (Wrks) | Lorain, OH | 09/03/2002 | Power supplies—transformers, pc boards.
42,222 | WicorAmerica/EHV-Weidmann (Comp) | St. Johnsbury, VT | 09/07/2002 | Insulation for electrical transformers.
42,223 | Nash Garment Co. (UNITE) | Bailey, NC | 07/11/2002 | Girls' dresses.
42,224 | Radio Frequency Systems (Wrks) | Corvallis, OR | 09/16/2002 | Amplifiers, duplexers and multicouplers.
42,225 | Ametek Aerospace Products (IUE) | Wilmington, MA | 09/20/2002 | Aircraft cables, thermocouples, machine.
42,226 | RLA Investments, LC (Wrks) | Hialeah, FL | 08/29/2002 | Micro-chips for computer systems.
42,227 | Jabil Circuit, Inc. (Wrks) | Meridian, ID | 09/23/2002 | Circuit board assemblies.

[FR Doc. 02-30060 Filed 11-26-02; 8:45 am]

BILLING CODE 4510-30-M